NUCLEAR REGULATORY COMMISSION

[Docket No. 50-285]

Omaha Public Power District; Notice of Partial Withdrawal of Application for Amendment to Facility Operating License

The U.S. Nuclear Regulatory Commission (the Commission) has granted the request of Omaha Public Power District (the licensee) to partially withdraw its December 14, 2001, application for proposed amendment to Facility Operating License No. DPR-40 for the Fort Calhoun Station, Unit No. 1, located in Washington County, Nebraska.

The purpose of the licensee's amendment request was to revise Technical Specifications (TS) 3.7.2(d) and 3.7(4) to allow the surveillance tests to be performed on a refueling frequency outside of a refueling outage, and (2) correct the docket concerning inconsistencies in the 1973 Fort Calhoun Station Safety Evaluation Report associated with the 13.8 kV transmission line capability. By letter dated March 21, 2002, the licensee withdrew its request related to the changes to TS 3.7(2)d.

The Commission had previously issued a Notice of Consideration of Issuance of Amendment published in the Federal Register on January 22, 2002 (67 FR 2927). However, by letter dated March 21, 2002, the licensee partially withdrew the proposed change.

For further details with respect to this action, see the application for amendment dated December 14, 2001, and the licensee's letter dated March 21, 2001, which partially withdrew the application for license amendment. Documents may be examined, and/or copied for a fee, at the NRC's Public Document Room (PDR), located at One White Flint North, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS, should contact the NRC PDR Reference staff by telephone at 1-800-397-4209, or 301-415-4737 or by e-mail to pdr@nrc.gov.

Dated at Rockville, Maryland, this 26th day of March 2002.
For the Nuclear Regulatory Commission.
Alan Wang,
Project Manager, Section 2, Project Directorate IV, Division of Licensing Project Management, Office of Nuclear Reactor Regulation.

[FR Doc. 02-7929 Filed 4-1-02; 8:45 am]

BILLING CODE 7590-01-P